DEPARTMENT OF COMMERCE

National Oceanic and Atmospheric Administration

Notice of Solicitation for Members of the NOAA Science Advisory Board

AGENCY: National Oceanic and Atmospheric Administration (NOAA), Office of Oceanic and Atmospheric Research.

ACTION: Notice of solicitation for members of the NOAA Science Advisory Board.

SUMMARY: NOAA is soliciting nominations for members of the SAB. The NOAA Science Advisory Board is the only Federal Advisory Committee with the responsibility to advise the Under Secretary of Commerce for Oceans and Atmosphere and NOAA Administrator on long- and short-range strategies for research, education, and application of science to resource management and environmental assessment and prediction. The SAB consists of 15 members reflecting the full breadth of NOAA's areas of responsibility and assists NOAA in maintaining a complete and accurate understanding of scientific issues critical to the agency's missions. As a Federal Advisory Committee the SAB's membership is required to be balanced in terms of viewpoints represented and the functions to be performed as well as including the interests of geographic regions of the country and the diverse sectors of our society (business and industry, science, academia, and the public at large).

DATES: Nominations should be sent to the address specified and must be received by thirty calendar days from publication of this notice.

ADDRESSES: Nominations should be submitted electronically to noaa.sab.2008members@noaa.gov.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov); or visit the NOAA SAB Web site at http://www.sab.noaa.gov.

SUPPLEMENTARY INFORMATION: SAB activities and advice provide necessary input to ensure that NOAA science programs are of the highest quality and provide optimal support to NOAA's

Mission Goals

• Protect, Restore, and Manage the Use of Coastal and Ocean Resources Through an Ecosystem Approach to Management

• Understand Climate Variability and Change to Enhance Society's Ability to Plan and Respond

• Serve Society's Needs for Weather and Water Information

• Support the Nation's Commerce with Information for Safe, Efficient, and Environmentally Sound Transportation

• Provide Critical Support for NOAA's Mission

The SAB meets at least twice each year, exclusive of subcommittee, task force, and working group meetings. Board members must be willing to participate in periodic reviews of the conduct, support, and use of science in NOAA laboratories and programs. Board members are appointed for a 3-year term.

Nominations

Nominations should provide: (1) The nominee's full name, title, institutional affiliation, and contact information; (2) the nominee's area(s) of expertise; and (3) a short description of their qualifications relative to the kinds of advice being solicited. Inclusion of a resume is desirable.

Dated: January 24, 2008.
Mark E. Brown,
Chief Financial Officer and Chief Administrative Officer, Office of Oceanic and Atmospheric Research, National Oceanic and Atmospheric Administration.

[FR Doc. E8-1698 Filed 1-30-08; 8:45 am]

BILLING CODE 3510-KD-P